DEPARTMENT OF LABOR

Employment and Training Administration

[TA-W-57,877 and TA-W-57,877A]

TFL USA/Canada Inc. New Castle, Delaware and Greensboro, NC; Notice of Termination of Investigation

Pursuant to Section 221 of the Trade Act of 1974, as amended, an investigation was initiated on September 2, 2005 in response to a petition filed by a company official on behalf of workers at TFL USA/Canada Inc., New Castle, Delaware and TFL USA/Canada Inc., Greensboro, North Carolina.The petitioner has requested that the petition be withdrawn. Consequently, the investigation has been terminated.

Signed at Washington, DC this 5th day of October, 2005.
Linda G. Poole,
Certifying Officer, Division of Trade Adjustment Assistance.

[FR Doc. E5-6008 Filed 10-28-05; 8:45 am]

BILLING CODE 4510-30-P